FEDERAL COMMUNICATIONS COMMISSION

47 CFR Part 73

[DA 00-120; MM Docket No. 99-44; RM-9469]

Radio Broadcasting Services; Stanfield, OR

AGENCY: Federal Communications Commission.

ACTION: Final rule; petition for reconsideration.

SUMMARY: This document grants the petition for reconsideration filed by Luella Hoskins against our action in the Report and Order, 64 FR 41899, August 2, 1999, which dismissed her petition to allot Channel 241C3 to Stanfield, OR, for failure to file a statement of continuing interest. This document also allots Channel 241C3 to Stanfield, OR, as the community's first local aural service. Channel 241C3 can be allotted to Stanfield in compliance with the Commission's minimum distance separation requirements with a site restriction of 17.3 kilometers (10.7 miles) southwest, at coordinates 45-40-40 NL; 119-23-01 WL, to avoid a short-spacing to Station KNLT, Channel 239C, Walla Walla, WA, and to Station KRCW, Channel 242C2, Royal City, WA. A filing window for Channel 241C3 at Stanfield, OR, will not be opened at this time. Instead, the issue of opening a filing window for this channel will be addressed by the Commission in a subsequent order.

DATES: Effective March 17, 2000.

FOR FURTHER INFORMATION CONTACT: Leslie K. Shapiro, Mass Media Bureau, (202) 418-2180.

SUPPLEMENTARY INFORMATION: This is a synopsis of the Commission's Memorandum Opinion and Order, MM Docket No. 99-44, adopted January 12, 2000, and released February 1, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334, 336.

§ 73.202 [Amended]

2. Section 73.202(b), the Table of FM Allotments under Oregon, is amended by adding Stanfield, Channel 241C3.

Federal Communications Commission.
John A. Karousos,
Chief, Allocations Branch, Policy and Rules Division, Mass Media Bureau.

[FR Doc. 00-3636 Filed 2-15-00; 8:45 am]

BILLING CODE 6712-01-P